DEPARTMENT OF DEFENSE

Office of the Secretary

[Transmittal No. 19-0D]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0D.

Dated: March 8, 2019.
Aaron T. Siegel,
Alternate OSD Federal Register Liaison Officer, Department of Defense.

BILLING CODE 5001-06-P

BILLING CODE 5001-06-C

Transmittal No. 19-0D

REPORT OF ENHANCEMENT OR UPGRADE OF SENSITIVITY OF TECHNOLOGY OR CAPABILITY (SEC. 36(B)(5)(C), AEC)

(i) Purchaser: Government of Estonia

(ii) Sec. 36(b)(1), AECA Transmittal No.: 14-54 2028;

Date: October 7, 2014

Military Department: Army

(iii) Description: On October 7, 2014, Congress was notified by Congressional certification transmittal number 14-54, of the possible sale under Section 36(b)(1) of the Arms Export Control Act of 350 Javelin Guided Missiles, 120 Command Launch Units (CLU) with Integrated Day/Thermal Sight, 102 Battery Coolant Units, 16 Enhanced Performance Basic Skills Trainers (EPBST), 102 Missile Simulation Rounds (MSR), spare and repair parts, rechargeable and non-rechargeable batteries, battery chargers and dischargers, support equipment, publications and technical data, personnel training and training equipment, U.S. Government and contractor representative engineering, technical and logistics support services, and other related logistics support. The estimated total cost was $55 million. Major Defense Equipment (MDE) constituted $42 million of this total.

This transmittal reports the inclusion of an additional one hundred thirty (130) Javelin Block 1 (FGM-148E) missiles (MDE). The revised MDE value is $75.6 million and the revised total case value is $91 million.

(iv) Significance: Estonia plays an important role in strengthening deterrence capabilities on the northeastern flank of NATO. Sale of the requested items will significantly enhance this NATO partner's ability to counter threats posed by armored and hardened targets, greatly increasing NATO's overall security, and providing a demonstrable deterrent effect.

(v) Justification: This proposed sale serves U.S. national, economic, and security interests by supporting the recipient's continuing efforts to modernize its armed forces and enhance its defensive capability. The proposed sale will improve Estonia's capability to meet current and future threats to enemy weapons. Estonia will use the enhanced capability as a deterrent to regional threats and to strengthen its homeland defense.

(vi) Sensitivity of Technology: The statement contained in the original AECA 36(b)(1) transmittal applies to the MDE items reported here.

(vii) Date Report Delivered to Congress: February 21, 2019

[FR Doc. 2019-04618 Filed 3-12-19; 8:45 am]

BILLING CODE 5001-06-P